FEDERAL COMMUNICATIONS COMMISSION

Open Commission Meeting, Thursday, January 30, 2020

January 27, 2020.

The Federal Communications Commission will hold an Open Meeting on the subjects listed below on Thursday, January 30, 2020 which is scheduled to commence at 10:30 a.m. in Room TW-C305, at 445 12th Street SW, Washington, DC.

Item No. | Bureau | Subject
1 | Wireline Competition | Title: Rural Digital Opportunity Fund (WC Docket No. 19-126); Connect America Fund (WC Docket No. 10-90).
|  | Summary: The Commission will consider a Report and Order that would adopt a two-phase reverse auction framework for the Rural Digital Opportunity Fund, committing $20.4 billion in high-cost universal service support to bring high-speed broadband service to millions of unserved Americans.
2 | Wireless Tele-Communications | Title: Amendment of the Commission's Rules Governing Standards for Hearing Aid-Compatible Handsets (WT Docket No. 20-3); Amendment of the Commission's Rules Governing Hearing Aid-Compatible Mobile Handsets (WT Docket No. 07-250); Comment Sought on 2010 Review of Hearing Aid Compatibility Regulations (WT Docket No. 10-254).
|  | Summary: The Commission will consider a Notice of Proposed Rulemaking that would propose to incorporate a new technical standard for determining whether a wireless handset is hearing aid-compatible and to simplify and update the Commission's hearing aid compatibility rules.
3 | Consumer & Governmental Affairs | Title: Structure and Practices of the Video Relay Service Program (CG Docket No. 10-51); Telecommunications Relay Services and Speech-to-Speech Services for Individuals with Hearing and Speech Disabilities (CG Docket No. 03-123).
|  | Summary: The Commission will consider a Report and Order that would adopt regulations on the handling of Video Relay Service (VRS) calls by communications assistants working from their homes.
4 | Media | Title: Electronic Delivery of Notices to Broadcast Television Stations (MB Docket No. 19-165); Modernization of Media Regulation Initiative (MB Docket No. 17-105).
|  | Summary: The Commission will consider a Report and Order that would modernize certain cable and satellite television provider notice provisions in Part 76 of the FCC's Rules by requiring certain notices to be delivered to broadcasters by e-mail instead of on paper.
5 | Enforcement | Title: Enforcement Bureau Action.
|  | Summary: The Commission will consider an enforcement action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

FCC.
Marlene Dortch,
Secretary.

[FR Doc. 2020-02080 Filed 2-3-20; 8:45 am]

BILLING CODE 6712-01-P